DEPARTMENT OF ENERGY

Federal Energy Regulatory Commission

Combined Notice of Filings #1

Take notice that the Commission received the following electric rate filings:

Docket Numbers: ER09-1534-002; ER11-2405-001.

Applicants: Southern California Edison Company.

Description: Southern California Edison Company's Refund Report, in Compliance with the Commission's February 11, 2011, Issued Letter Order.

Filed Date: 03/30/2011.

Accession Number: 20110330-5059.

Comment Date: 5 p.m. Eastern Time on Wednesday, April 20, 2011.

Docket Numbers: ER11-1991-002.

Applicants: Midwest Independent Transmission System Operator, Inc.

Description: Midwest Independent Transmission System Operator, Inc. submits tariff filing per 35: 03-30-11 DIR 30-day Compliance to be effective 3/1/2011.

Filed Date: 03/30/2011.

Accession Number: 20110330-5199.

Comment Date: 5 p.m. Eastern Time on Wednesday, April 20, 2011.

Docket Numbers: ER11-2887-001.

Applicants: PacifiCorp.

Description: PacifiCorp submits tariff filing per 35.17(b): BPA AC Intertie Agreement Amended Filing to be effective 4/17/2011.

Filed Date: 03/30/2011.

Accession Number: 20110330-5226.

Comment Date: 5 p.m. Eastern Time on Wednesday, April 20, 2011.

Docket Numbers: ER11-3117-001.

Applicants: Lively Grove Energy Partners, LLC.

Description: Lively Grove Energy Partners, LLC submits tariff filing per 35.17(b): Amendment Filing to MBR Tariff to be effective 5/31/2011.

Filed Date: 03/30/2011.

Accession Number: 20110330-5064.

Comment Date: 5 p.m. Eastern Time on Wednesday, April 13, 2011.

Docket Numbers: ER11-3117-001.

Applicants: Lively Grove Energy Partners, LLC.

Description: Supplemental Information of Lively Grove Energy Partners, LLC under ER11-3117, Only the date of Transmittal Letter should be changed from March 30, 2010 to March 30, 2011.

Filed Date: 03/30/2011.

Accession Number: 20110330-5243.

Comment Date: 5 p.m. Eastern Time on Wednesday, April 13, 2011.

Docket Numbers: ER11-3223-000.

Applicants: Central Maine Power Company.

Description: Central Maine Power Company submits tariff filing per 35.13(a)(2)(iii): Central Maine Power Company—Sparhawk Mill Assoc. LLC Interconnection Agreement to be effective 3/1/2011.

Filed Date: 03/30/2011.

Accession Number: 20110330-5036.

Comment Date: 5 p.m. Eastern Time on Wednesday, April 20, 2011.

Docket Numbers: ER11-3224-000.

Applicants: Westar Energy, Inc.

Description: Westar Energy, Inc. submits tariff filing per 35.13(a)(2)(iii): Midwest Energy, Inc. Participation Power Agreement to be effective 6/1/2011.

Filed Date: 03/30/2011.

Accession Number: 20110330-5046.

Comment Date: 5 p.m. Eastern Time on Wednesday, April 20, 2011.

Docket Numbers: ER11-3225-000.

Applicants: Midwest Independent Transmission System Operator, Inc.

Description: Midwest Independent Transmission System Operator, Inc. submits tariff filing per 35: 03-30-11 Attachment C to be effective 4/1/2011.

Filed Date: 03/30/2011.

Accession Number: 20110330-5047.

Comment Date: 5 p.m. Eastern Time on Wednesday, April 20, 2011.

Docket Numbers: ER11-3226-000.

Applicants: KCP&L Greater Missouri Operations Company.

Description: KCP&L Greater Missouri Operations Company submits tariff filing per 35.13(a)(2)(iii): Depreciation Update Filing to be effective 6/4/2011.

Filed Date: 03/30/2011.

Accession Number: 20110330-5073.

Comment Date: 5 p.m. Eastern Time on Wednesday, April 20, 2011.

Docket Numbers: ER11-3227-000.

Applicants: American Transmission Systems, Incorporation, PJM Interconnection, L.L.C.

Description: American Transmission Systems, Incorporated submits tariff filing per 35.13(a)(2)(iii): First Energy Serv Co. Interconnection Agreements re ATSI Integration into PJM to be effective 6/1/2011.

Filed Date: 03/30/2011.

Accession Number: 20110330-5083.

Comment Date: 5 p.m. Eastern Time on Wednesday, April 20, 2011.

Docket Numbers: ER11-3228-000.

Applicants: Southwestern Public Service Company.

Description: Southwestern Public Service Company submits tariff filing per 35.13(a)(2)(iii): 3-30-11_RS132 SPS-GSEC to be effective 7/16/2010.

Filed Date: 03/30/2011.

Accession Number: 20110330-5101.

Comment Date: 5 p.m. Eastern Time on Wednesday, April 20, 2011.

Docket Numbers: ER11-3229-000.

Applicants: Alcoa Power Generating Inc.

Description: Alcoa Power Generating Inc. submits tariff filing per 35.13(a)(2)(iii): APGI Order No. 676-E OATT Revisions to be effective 4/1/2011.

Filed Date: 03/30/2011.

Accession Number: 20110330-5102.

Comment Date: 5 p.m. Eastern Time on Wednesday, April 20, 2011.

Docket Numbers: ER11-3230-000.

Applicants: Southwest Power Pool, Inc.

Description: Southwest Power Pool, Inc. submits tariff filing per 35.13(a)(2)(iii): 1693R1 Western Trail Wind Project I LLC LGIA to be effective 2/28/2011.

Filed Date: 03/30/2011.

Accession Number: 20110330-5103.

Comment Date: 5 p.m. Eastern Time on Wednesday, April 20, 2011.

Docket Numbers: ER11-3231-000.

Applicants: Trans Bay Cable LLC.

Description: Trans Bay Cable LLC submits tariff filing per 35.1: Schedule Rate to be effective 3/30/2011.

Filed Date: 03/30/2011.

Accession Number: 20110330-5113.

Comment Date: 5 p.m. Eastern Time on Wednesday, April 20, 2011.

Docket Numbers: ER11-3232-000.

Applicants: Florida Power Corporation.

Description: Notice of Cancellation of Interchange Agreement with LG&E Energy Marketing by Florida Power Corporation.

Filed Date: 03/30/2011.

Accession Number: 20110330-5115.

Comment Date: 5 p.m. Eastern Time on Wednesday, April 20, 2011.

Docket Numbers: ER11-3233-000.

Applicants: Westar Energy, Inc.

Description: Westar Energy, Inc. submits tariff filing per 35.13(a)(2)(iii): Cost-Based Rate Schedule to be effective 6/1/2011.

Filed Date: 03/30/2011.

Accession Number: 20110330-5123.

Comment Date: 5 p.m. Eastern Time on Wednesday, April 20, 2011.

Docket Numbers: ER11-3234-000.

Applicants: Northern States Power Company, a Minnesota.

Description: Northern States Power Company, a Minnesota corporation submits tariff filing per 35.13(a)(2)(iii): 20110330_InterchangeAgreement to be effective 1/1/2011.

Filed Date: 03/30/2011.

Accession Number: 20110330-5152.

Comment Date: 5 p.m. Eastern Time on Wednesday, April 20, 2011.

Docket Numbers: ER11-3235-000.

Applicants: Northern States Power Company, a Wisconsin.

Description: Northern States Power Company, a Wisconsin corporation submits tariff filing per 35.13(a)(2)(iii): 20110330_InterchangeAgreement to be effective 1/1/2011.

Filed Date: 03/30/2011.

Accession Number: 20110330-5155.

Comment Date: 5 p.m. Eastern Time on Wednesday, April 20, 2011.

Docket Numbers: ER11-3236-000.

Applicants: New York Independent System Operator, Inc.

Description: New York Independent System Operator, Inc. submits tariff filing per 35.13(a)(2)(iii): NYISO Filing to Revise BPCG Calculation and Request for Waiver to be effective 6/1/2011.

Filed Date: 03/30/2011.

Accession Number: 20110330-5184.

Comment Date: 5 p.m. Eastern Time on Wednesday, April 20, 2011.

Docket Numbers: ER11-3237-000.

Applicants: Wisconsin Electric Power Company.

Description: Wisconsin Electric Power Company submits tariff filing per 35.12: Wisconsin Electric Formula Rate Wholesale Sales Tariff Service Agreement No 2 to be effective 6/1/2011. Filing Type: 20.

Filed Date: 03/30/2011.

Accession Number: 20110330-5201.

Comment Date: 5 p.m. Eastern Time on Wednesday, April 20, 2011.

Take notice that the Commission received the following open access transmission tariff filings:

Docket Numbers: OA07-32-011.

Applicants: Entergy Services, Inc.

Description: Informational report of Entergy Services, Inc.

Filed Date: 03/30/2011.

Accession Number: 20110330-5241.

Comment Date: 5 p.m. Eastern Time on Wednesday, April 20, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: March 31, 2011.
Nathaniel J. Davis, Sr.,
Deputy Secretary.

[FR Doc. 2011-8251 Filed 4-6-11; 8:45 am]

BILLING CODE 6717-01-P